DEPARTMENT OF THE TREASURY

United States Mint

Suspension of Bent and Partial Coin Exchange by United States Mint

ACTION: Notice.

Under the authority of 31 U.S.C. 5120, the United States Mint established a program by which the public could exchange bent and partial coins for reimbursement. Regulations governing the program appear at 31 CFR part 100, subpart C.

The United States Mint has suspended the exchange program due to the possibility of unlawful material being submitted for redemption. The United States Mint is committed to ensuring the integrity of circulating coins, and is currently engaged in testing materials and assessing the security of the program. Until further notice, the United States Mint will not process any new applications or material for redemption. Any and all updates on the status of the exchange program will be posted on the following web page as soon as updates become available: https://www.usmint.gov/news/consumer-alerts/mutilated-coin-program.

The redemption of uncurrent coins, as defined by 31 CFR 100.10(a), is unaffected by this suspension. Uncurrent coins may still be redeemed by Federal Reserve banks and branches in accordance with the criteria and procedures set forth in 31 CFR 100.10.

FOR FURTHER INFORMATION CONTACT: Thomas V. Johnson, Chief of Corporate Communications, United States Mint, Washington, DC, at (202) 354-7718 or thomas.v.johnson@usmint.treas.gov.

Authority: 31 U.S.C. 5120.

Dated: July 15, 2019.
David J. Ryder,
Director, United States Mint.

[FR Doc. 2019-15490 Filed 7-19-19; 8:45 am]

BILLING CODE P